SUSQUEHANNA RIVER BASIN COMMISSION

Commission Meeting

AGENCY: Susquehanna River Basin Commission.

ACTION: Notice.

SUMMARY: The Susquehanna River Basin Commission will hold its regular business meeting on June 20, 2013, in Harrisburg, Pennsylvania. Details concerning the matters to be addressed at the business meeting are contained in the Supplementary Information section of this notice.

DATES: June 20, 2013, at 1:30 p.m.

ADDRESSES: North Office Building, Hearing Room 1 (Ground Level), North Street (at Commonwealth Avenue), Harrisburg, PA. 17120.

FOR FURTHER INFORMATION CONTACT: Richard A. Cairo, General Counsel, telephone: (717) 238-0423, ext. 306; fax: (717) 238-2436.

Opportunity to Appear and Comment

Interested parties are invited to attend the business meeting and encouraged to review the Commission's Public Meeting Rules of Conduct, which are posted on the Commission's Web site, www.srbc.net. As identified in the public hearing notice referenced below, written comments on the Regulatory Program projects and proposed fee schedule that were the subject of the public hearing, and are listed for action at the business meeting, are subject to a comment deadline of June 3, 2013. Written comments pertaining to any other matters listed for action at the business meeting may be mailed to the Susquehanna River Basin Commission, 1721 North Front Street, Harrisburg, Pennsylvania 17102-2391, or submitted electronically through http://www.srbc.net/pubinfo/publicparticipation.htm. Any such comments mailed or electronically submitted must be received by the Commission on or before June 14, 2013, to be considered.

SUPPLEMENTARY INFORMATION: The business meeting will include actions or presentations on the following items: (1) Presentation on upgrades to the Commission's Susquehanna Early Warning System program; (2) election of officers for FY-2014; (3) the proposed Water Resources Program; (4) release for public review and comment of the 2013 update of the Comprehensive Plan for the Water Resources of the Susquehanna River Basin; (5) adoption of a FY-2015 budget; (6) amendments to its Regulatory Program Fee Schedule; (7) ratification/approval of contracts and grants; (8) Furman Foods, Inc. and Carrizo (Marcellus) LLC compliance matters; and (9) Regulatory Program projects.

The Regulatory Program projects and the proposed Regulatory Program Fee Schedule listed for Commission action are those that were the subject of a public hearing conducted by the Commission on May 23, 2013, and identified in the notice for such hearing, which was published in 78 FR 24785, April 26, 2013. Please note that the following additional project has been scheduled for rescission action:

• Project Sponsor and Facility: Albemarle Corporation, Borough of Tyrone, Blair County, Pa. (Docket Nos. 20010203 and 20010203-1).

Authority: Public Law 91-575, 84 Stat. 1509 et seq., 18 CFR Parts 806, 807, and 808.

Dated: May 17, 2013.
Thomas W. Beauduy,
Deputy Executive Director.

[FR Doc. 2013-12724 Filed 5-28-13; 8:45 am]

BILLING CODE 7040-01X-P